DEPARTMENT OF TRANSPORTATION

Federal Aviation Administration

14 CFR Part 39

[Docket No. 2000-CE-48-AD; Amendment 39-12029; AD 2000-24-22]

RIN 2120-AA64

Airworthiness Directives; S.N. CENTRAIR Model 201B Gliders

AGENCY: Federal Aviation Administration, DOT.

ACTION: Final rule.

SUMMARY: This amendment adopts a new airworthiness directive (AD) that applies to all S.N. CENTRAIR Model 201B gliders. This AD requires you to modify the rear canopy emergency release system. This AD is the result of mandatory continuing airworthiness information (MCAI) issued by the airworthiness authority for France. The actions specified in this AD are intended to prevent the rear canopy retaining strap from not releasing properly during the emergency egress procedure because of the current design of the rear canopy emergency release system. This condition, if not corrected, will not allow the rear canopy to completely separate from the glider and could result in potential injury to the pilot during an emergency egress.

DATES: This AD becomes effective on January 27, 2001.

The Director of the Federal Register approved the incorporation by reference of certain publications listed in the regulations as of January 27, 2001.

ADDRESSES: You may get the service information referenced in this AD from S.N. CENTRAIR, Aerodome—36300 Le Blanc, France; telephone: 02.54.37.07.96; facsimile: 02.54.37.48.64. You may examine this information at the Federal Aviation Administration (FAA), Central Region, Office of the Regional Counsel, Attention: Rules Docket No. 2000-CE-48-AD, 901 Locust, Room 506, Kansas City, Missouri 64106; or at the Office of the Federal Register, 800 North Capitol Street, NW, suite 700, Washington, DC.

FOR FURTHER INFORMATION CONTACT: Mike Kiesov, Aerospace Engineer, FAA, Small Airplane Directorate, 901 Locust, Room 301, Kansas City, Missouri 64106; telephone: (816) 329-4144; facsimile: (816) 329-4090.

SUPPLEMENTARY INFORMATION:

Discussion

What events have caused this AD? The Direction Générale de l'Aviation Civile (DGAC), which is the airworthiness authority for France, recently notified the FAA that an unsafe condition may exist on all S.N. CENTRAIR Model 201B gliders. The DGAC reports an incident where a Model 201B rear canopy strap did not properly release during an actual emergency egress.

The DGAC advises that the problem is related to the unreliability of the rear canopy in completely separating from the glider during an emergency egress procedure.

What are the consequences if the condition is not corrected? If the rear canopy retaining strap does not release properly during the emergency egress procedure, the rear canopy will not completely separate from the glider. This could result in potential injury to the pilot during an emergency egress.

Has FAA taken any action to this point? We issued a proposal to amend part 39 of the Federal Aviation Regulations (14 CFR part 39) to include an AD that would apply to all S.N. CENTRAIR Model 201B gliders. This proposal was published in the Federal Register as a notice of proposed rulemaking (NPRM) on September 29, 2000 (65 FR 58495). The NPRM proposed to require you to install a mechanism that automatically releases the rear canopy strap when the emergency canopy lever is actuated.

Was the public invited to comment? Interested persons were afforded an opportunity to participate in the making of this amendment. No comments were received on the proposed rule or the FAA's determination of the cost to the public.

The FAA's Determination

What is FAA's Final Determination on this Issue? After careful review of all available information related to the subject presented above, we have determined that air safety and the public interest require the adoption of the rule as proposed except for minor editorial corrections. We determined that these minor corrections:

—will not change the meaning of the AD; and

—will not add any additional burden upon the public than was already proposed.

Compliance Time of this AD

What is the compliance time of this AD? The compliance time of this AD is “within the next 3 months after the effective date of this AD.”

Why is the compliance time presented in calendar time instead of hours time-in-service (TIS)? Although the rear canopy retaining strap not releasing properly during the emergency egress procedure occurs during flight, the condition is not a direct result of glider operation. The chance of this situation occurring is the same for a glider with 10 hours TIS as it would be for a glider with 500 hours TIS. A calendar time for compliance will assure that the unsafe condition is addressed on all gliders in a reasonable time period.

What are the differences between the French AD and this AD?

The French AD requires installation of a mechanism that automatically releases the rear canopy strap when the emergency canopy lever is actuated. The French AD also requires a visual inspection to ensure that the modification is incorporated correctly.

The FAA does not require this inspection because we believe that the procedures are adequate to allow the maintenance personnel to accomplish the action correctly.

Cost Impact

How many gliders does this AD impact? We estimate that this AD affects 41 gliders in the U.S. registry.

What is the cost impact of this AD on owners/operators of the affected gliders? We estimate the following costs to accomplish the modification:

Labor cost | Parts cost | Total cost per glider | Total cost on U.S. Operators
4 workhours × $60 per hour = $240 | $150 per glider | $390 per glider | $15,990

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2000-24-22 S.N. Centrair: Amendment 39-12029; Docket No. 2000-CE-48-AD.

(a) What gliders are affected by this AD? This AD affects Model 201B gliders, all serial numbers, certificated in any category.

(b) Who must comply with this AD? Anyone who wishes to operate any of the above gliders must comply with this AD.

(c) What problem does this AD address? The actions specified in this AD are intended to prevent the rear canopy retaining strap from not releasing properly during the emergency egress procedure because of the current design of the rear canopy emergency release system. This condition, if not corrected, will not allow the rear canopy to completely separate from the glider and could result in potential injury to the pilot during an emergency egress.

(d) What actions must I accomplish to address this problem? To address this problem, you must accomplish the following:

Actions | Compliance times | Procedures
(1) Install a mechanism that automatically releases the rear canopy strap when the emergency canopy lever is actuated | Within the next 3 months after January 27, 2001 (the effective date of AD) | Follow the procedures in S.N Centrair Process Sheet for Fitment of the Release Unit for the Rear Canopy Strap on Glider Centrair 201 “Marianne”, dated March 17, 1999 (or the instructions provided with the modification kit). The document specified above is referenced in S.N. CENTRAIR Service Bulletin No. 201-16, Revision 1, dated December 12, 1999. The inspection referenced in the service bulletin is not required by this AD.
(2) Do not install a rear canopy emergency release system without incorporating the modification referenced in paragraph (d)(1) of this AD | As of January 27, 2001 (the effective date of this AD) | Not Applicable.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each glider identified in paragraph (a) of this AD, regardless of whether it has been modified, altered, or repaired in the area subject to the requirements of this AD. For gliders that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mike Kiesov, Aerospace Engineer, FAA, Small Airplane Directorate, 901 Locust, Room 301, Kansas City, Missouri 64106; telephone: (816) 329-4144; facsimile: (816) 329-4090.

(g) What if I need to fly the glider to another location to comply with this AD? The FAA can issue a special flight permit under sections 21.197 and 21.199 of the Federal Aviation Regulations (14 CFR 21.197 and 21.199) to operate your glider to a location where you can accomplish the requirements of this AD.

(h) Are any service bulletins incorporated into this AD by reference? Actions required by this AD must be done in accordance with S.N. CENTRAIR Service Bulletin No. 201-16, Revision 1, dated December 12, 1999, and S.N Centrair Process Sheet for Fitment of the Release Unit for the Rear Canopy Strap on Glider Centrair 201 “Marianne”, dated March 17, 1999 (including photo 1A added to page 3 or November 8, 1999). The instructions provided with the modification kit also include these procedures. The Director of the Federal Register approved this incorporation by reference under 5 U.S.C. 552(a) and 1 CFR part 51. You can get copies from S.N. CENTRAIR, Aerodome 36300 Le Blanc, France; telephone: 02.54.37.07.96; facsimile: 02.54.37.48.64. You can look at copies at the FAA, Central Region, Office of the Regional Counsel, 901 Locust, Room 506, Kansas City, Missouri, or at the Office of the Federal Register, 800 North Capitol Street, NW, suite 700, Washington, DC.

(i) When does this amendment become effective? This amendment becomes effective on January 27, 2001.

Note 2: The subject of this AD is addressed in French AD 1999-055(A)R1, dated February 5, 2000.

Issued in Kansas City, Missouri, on November 28, 2000.
William J. Timberlake,
Acting Manager, Small Airplane Directorate, Aircraft Certification Service.

[FR Doc. 00-30903 Filed 12-12-00; 8:45 am]

BILLING CODE 4910-13-P